DEPARTMENT OF EDUCATION

34 CFR Chapter III

[Docket ID ED-2014-OSERS-0061; CFDA Number: 84.373F]

Proposed Priority—Technical Assistance on State Data Collection—IDEA Fiscal Data Center

AGENCY: Office of Special Education and Rehabilitative Services, Department of Education.

ACTION: Proposed priority.

SUMMARY: The Assistant Secretary for Special Education and Rehabilitative Services proposes a funding priority under the Technical Assistance (TA) on State Data Collection program. The Assistant Secretary may use this proposed priority for competitions in fiscal year (FY) 2014 and later years. We take this action to focus attention on an identified national need to provide TA to improve the capacity of States to meet the data collection requirements of the Individuals with Disabilities Education Act (IDEA).

DATES: We must receive your comments on or before July 15, 2014.

ADDRESSES: Submit your comments through the Federal eRulemaking Portal or via postal mail, commercial delivery, or hand delivery. We will not accept comments by fax or by email. Please submit your comments only one time, in order to ensure that we do not receive duplicate copies. In addition, please include the Docket ID at the top of your comments.

• Federal eRulemaking Portal: Go to www.regulations.gov to submit your comments electronically. Information on using Regulations.gov, including instructions for accessing agency documents, submitting comments, and viewing the docket, is available on the site under “Are you new to the site?”

• Postal Mail, Commercial Delivery, or Hand Delivery: If you mail or deliver your comments about these proposed regulations, address them to Matthew Schneer, U.S. Department of Education, 400 Maryland Avenue SW., room 4169, Potomac Center Plaza, Washington, DC 20202-2600.

Privacy Note: The Department's policy is to make all comments received from members of the public available for public viewing in their entirety on the Federal eRulemaking Portal at www.regulations.gov. Therefore, commenters should be careful to include in their comments only information that they wish to make publicly available.

FOR FURTHER INFORMATION CONTACT: Matthew Schneer. Telephone: (202) 245-6755 or by email: Matthew.Schneer@ed.gov.

If you use a telecommunications device for the deaf (TDD) or a text telephone (TTY), call the Federal Relay Service (FRS), toll free, at 1-800-877-8339.

SUPPLEMENTARY INFORMATION: Invitation to Comment: We invite you to submit comments regarding the proposed priority in this notice. To ensure that your comments have maximum effect in developing the notice of final priority, we urge you to clearly identify the specific topic that each comment addresses.

We invite you to assist us in complying with the specific requirements of Executive Orders 12866 and 13563 and their overall requirement of reducing regulatory burden that might result from this proposed priority. Please let us know of any further ways we could reduce potential costs or increase potential benefits while preserving the effective and efficient administration of the program.

Assistance to Individuals With Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Technical Assistance on State Data Collection program is to improve the capacity of States to meet their IDEA data collection and reporting requirements under sections 616 and 618 of IDEA. Funding for the program is authorized under section 611(c)(1) of IDEA, which gives the Secretary the authority to reserve funds appropriated under Part B of IDEA to provide TA activities authorized under section 616(i).¹ Section 616(i) requires the Secretary to review the data collection and analysis capacity of States to ensure that data and information determined necessary for implementation of section 616 are collected, analyzed, and accurately reported. It also requires the Secretary to provide TA, where needed, to improve the capacity of States to meet the data collection requirements under IDEA. The Consolidated Appropriations Act of 2014 gives the Secretary the authority to use FY 2014 funds reserved under section 611(c) to assist the Secretary to administer and carry out other services and activities to improve data collection, coordination, quality, and use under Parts B and C of IDEA (Pub. L. 113-76).

¹ All references to a statute in this priority are to sections of IDEA unless otherwise noted.

Program Authority: 20 U.S.C. 1411(c), 1416(i), and 1418(c); Consolidated Appropriations Act, 2014 (Pub. L. 113-76).

Applicable Program Regulations: 34 CFR 300.702.

Proposed Priority

This notice contains one proposed priority. The priority is:

IDEA Fiscal Data Center

Background

The purpose of this priority is to establish a Fiscal IDEA Data Center (Center) to provide States with TA for meeting their fiscal data collection and reporting obligations under IDEA.²

² For the purposes of this priority, IDEA fiscal data refers specifically to two annual data submissions authorized under section 618 of IDEA: (a) Section V of the Annual State Application under Part B of IDEA (Part B Annual Application); and (b) the LEA MOE/CEIS Collection, which was formerly referred to as the Report on Maintenance of Effort Reduction and Coordinated Early Intervening Services (Table 8).

Within the past four years, the Secretary has instituted two new fiscal data collections that apply to State educational agencies (SEAs) that administer Part B of IDEA: (a) IDEA Part B local educational agency (LEA) Maintenance of Effort (MOE) Reduction and Coordinated Early Intervening Services (CEIS) [LEA MOE/CEIS] Data Collection, added in Federal fiscal year (FFY) 2009; and (b) Section V of the Part B Annual Application under IDEA (Section V), added in the FFY 2013 application. States may suffer significant monetary consequences as a result of noncompliance identified through these data collections.

LEA MOE/CEIS Requirement

Pursuant to 34 CFR 300.203(a), amounts provided to an LEA under Part B of IDEA shall not be used, except as provided in 34 CFR 300.204 and 205, to reduce the level of expenditures for the education of children with disabilities made by the LEA below the level of expenditures for the preceding fiscal year. Pursuant to section 613(a)(2)(C) and 34 CFR 300.205, in any fiscal year for which the IDEA section 611 subgrant received by an LEA exceeds the amount the LEA received for the previous fiscal year, and providing that the SEA has determined that the LEA is meeting the requirements of IDEA under section 616 and the SEA has not taken action against the LEA under section 616, the LEA may reduce the level of expenditures for the education of children with disabilities by not more than 50 percent of the amount of such excess in the current year's subgrant. Section 613(a)(2)(C)(iv) provides that the amount of funds expended by an LEA for CEIS shall count toward the maximum amount of expenditures for the education of children with disabilities that an LEA may reduce under section 613(a)(2)(C). Consistent with long-standing Department practice, if an LEA fails to maintain its level of expenditures for the education of children with disabilities, the SEA is liable in a recovery action under 20 U.S.C. 1234a to return to the Department, from non-Federal funds or funds for which accountability to the Federal government is not required, an amount equal to the amount by which the LEA failed to maintain its level of expenditures.

LEA MOE/CEIS Data Collection Requirements and Calculations

In order to meet the data collection requirement related to LEA MOE/CEIS, States must report the following data for all LEAs (including educational service agencies): (a) Section 611 and section 619 allocation amounts; (b) The amount by which the LEA reduced its level of fiscal effort under 34 CFR 300.205 (LEA MOE reduction); (c) For each LEA that reserved funds for CEIS (required or voluntary), the dollar amount that was reserved; and (d) The number of children receiving CEIS. In addition, the SEA must provide the following information: (a) The relevant LEA determination under section 616; and (b) Whether the LEA voluntarily reserved funds for CEIS ³ or was required to reserve funds for CEIS.⁴

³ Under section 613(f), LEAs may voluntarily reserve not more than 15 percent of their IDEA subgrants, less any amount reduced because the LEA took the LEA MOE reduction in 34 CFR 300.205 to develop and implement CEIS for students in kindergarten through grade 12 who have not been identified as needing special education or related services, but who need additional academic and behavioral support to succeed in a general education environment.

⁴ Under section 618(d)(2)(B), if a State identifies significant disproportionality based on race or ethnicity in an LEA with respect to the identification of children as children with disabilities, or the placement of children with disabilities in particular educational settings, the LEA must use the maximum amount (15 percent) of funds allowable for CEIS to provide comprehensive CEIS for children in the LEA, particularly for children in those groups that were significantly overidentified.

States must collect valid and reliable data on LEA MOE/CEIS from their LEAs in order to report valid and reliable data on LEA MOE/CEIS to the Department. In order to determine the amount by which an LEA reduced local, or State and local, expenditures for the education of children with disabilities in the reporting year pursuant to 34 CFR 300.205, the LEA must determine: (a) The amount of local, or State and local, funds it expended in a prior year, as well as the amount expended in the reporting year; (b) What portion of the reduction of these expenditures, if any, taken in the reporting year is attributable to the LEA MOE exceptions in 34 CFR 300.204; ⁵ and (c) The portion that is attributable to the LEA MOE adjustment provision in 34 CFR 300.205.

⁵ Under section 613(a)(2)(B) and 34 CFR 300.204, an LEA may reduce the level of expenditures for the education of children with disabilities below the level of those expenditures for the preceding fiscal year if the reduction is attributable to any of the following:

(a) The voluntary departure, by retirement or otherwise, or departure for just cause, of special education or related services personnel.

(b) A decrease in the enrollment of children with disabilities.

(c) The termination of the obligation of the agency, consistent with Part B of the IDEA, to provide a program of special education to a particular child with a disability that is an exceptionally costly program, as determined by the SEA, because the child—

(1) Has left the jurisdiction of the agency;

(2) Has reached the age at which the obligation of the agency to provide FAPE to the child has terminated; or

(3) No longer needs the program of special education.

(d) The termination of costly expenditures for long-term purchases, such as the acquisition of equipment or the construction of school facilities.

(e) The assumption of cost by the high cost fund operated by the SEA under 34 CFR 300.704(c).

The following is an example of the information needed to accurately report the amount by which an LEA reduced its expenditures of State and local funds for the education of children with disabilities pursuant to 34 CFR 300.205. This example assumes that the LEA calculates MOE based on State and local funds, not just local funds, and the reporting year is school year (SY) 2012-2013. In this example, the LEA must make the following calculations in order to report accurate LEA MOE/CEIS data:

(a) The amount of State and local funds expended for the education of children with disabilities in SY 2011-2012;

(b) The amount of State and local funds expended for the education of children with disabilities in SY 2012-2013;

(c) The amount of the reduction, if any, in State and local funds expended for the education of children with disabilities between SY 2011-2012 and SY 2012-2013;

(d) The amount of that reduction, if any, in SY 2012-2013 that is attributable to the exceptions permitted in 34 CFR 300.204; and

(e) If the LEA met requirements and had an increase in its FFY 2012 section 611 allocation, the amount of that reduction, if any, in SY 2012-2013 that is attributable to the MOE adjustment provision in 34 CFR 300.205.

LEA MOE/CEIS Data Quality Issues

Based on the Office of Special Education Programs' (OSEP's) review of the LEA MOE/CEIS data submitted for FFYs 2009 and 2010, OSEP determined that a significant number of States initially reported data that were not valid and reliable. For example, many States initially reported data indicating that their LEAs: ⁶

⁶ This is a partial list identified by OSEP.

(a) Decreased expenditures of non-Federal funds for the education of children with disabilities, pursuant to 34 CFR 300.205, even though they did not have a determination of meets requirements under section 616;

(b) Decreased expenditures of non-Federal funds for the education of children with disabilities, pursuant to 34 CFR 300.205, by more than the allowable reduction of 50 percent of the increase of their IDEA section 611 subgrant; and

(c) Did not reserve 15 percent of their Part B IDEA allocation for comprehensive CEIS when required to do so pursuant to 34 CFR 300.646.

In the process of providing TA to States, OSEP found that some States initially reported data that were not valid and reliable because the States did not fully understand the underlying fiscal requirements and the calculations necessary to meet the data collection requirements related to LEA MOE/CEIS.

In addition, OSEP has identified issues related to the quality of LEA MOE/CEIS data through monitoring and inquiries from States and LEAs. In a recent audit, the Office of Inspector General (OIG) also raised concerns about the validity and reliability of the LEA MOE/CEIS data.⁷ These experiences demonstrate the continued need to provide TA on LEA MOE/CEIS data collection requirements in order to ensure States submit valid and reliable data that meet the data collection requirements.

⁷ Local Educational Agency Maintenance of Effort Flexibility Due to Recovery Act IDEA, Part B Funds (ED-OIG/L09L0011).

State Maintenance of Financial Support (MFS) Requirement

Pursuant to section 612(a)(18)(A) and 34 CFR 300.163(a), States must not reduce the total amount of State financial support made available for special education and related services for children with disabilities, or made available because of the excess costs of educating those children, below the amount of that support for the preceding fiscal year. This requirement is applicable to State financial support made available by a State through all of its State agencies, and is not limited to the support made available through the SEA.⁸

⁸ See OSEP Memorandum 10-5, dated December 2, 2009 (http://www2.ed.gov/policy/speced/guid/idea/memosdcltrs/osep10-05maintenanceoffinancialsupport.pdf).

Under section 612(a)(18)(B), the statutory consequence for a State that fails to maintain financial support without obtaining a waiver under section 612(a)(18)(C) is a reduction in the amount of the State's section 611 grant award in any fiscal year in an amount equal to the amount by which the State failed to maintain financial support.

Beginning in FY 2013, Congress made changes to the procedure for allocating Part B funds to States in section 611(d) of the IDEA in order to limit the impact of a one-time violation of the MFS requirement. While these changes did reduce the long-term effects of a State's failure to maintain financial support, reducing State allocations in accordance with section 612(a)(18) could still result in a significant reduction in a given fiscal year, depending on the amount by which the State failed to meet the requirements.

Section V of the Part B Annual Application

Section V of the Part B Annual Application requires States to provide the total amount of State financial support made available for special education and related services for children with disabilities. These data assist OSEP in determining whether States met the requirements of section 612(a)(18). For FFY 2013, States were required to report and certify the amount of State funds made available for State FYs 2011 and 2012.

As part of its monitoring responsibilities, OSEP has conducted fiscal monitoring, reviewed waiver requests under section 612(a)(18)(C), resolved Office of Management and Budget (OMB) Circular A-133 audits, and reviewed States' data submitted in Section V of their applications. Based on these activities OSEP has concluded that many States need additional TA to submit valid and reliable data in Section V. Specifically related to State MFS, OSEP found:

(a) Seventeen States could not demonstrate that they have procedures to properly calculate State MFS;

(b) Since 2009, 8 States submitted a total of 12 State MFS waiver requests that required considerable clarification; ⁹ and

⁹ Each request required numerous data submissions and teleconferences before the Department could respond to the waiver request. In two instances, Department staff travelled to the SEA to resolve data issues.

(c) Multiple States had discrepancies between the data reported in Section V and data obtained from other sources, including publicly available data, requiring OSEP to devote significant staff time and resources to determining whether the MFS data for those States were valid and reliable.

Assisting States in reporting valid and reliable State MFS data is made more difficult because every State's special education funding structure is different and may change with State legislative action. As a result of these issues, OSEP believes that States need intensive, State-specific TA on how to collect and report valid and reliable State MFS data to meet the data collection requirements. OSEP believes that investing in the Center to assist States in collecting and reporting valid and reliable data is more efficient than identifying and correcting inaccurate data after it has been reported to the Department.

Proposed Priority

The purpose of this proposed priority is to fund a cooperative agreement to establish and operate a Center to achieve, at a minimum, the following expected outcomes: (a) Improve the capacity of State staff to collect and report accurate fiscal data related to LEA MOE/CEIS and State MFS; and (b) increase States' knowledge of the underlying fiscal requirements and the calculations necessary to submit valid and reliable data on LEA MOE/CEIS and State MFS.

Project Activities. To meet the requirements of this priority, the Center at a minimum, must conduct the following activities:

Knowledge Development Activities

(a) To ensure that States have the capacity to collect and report accurate LEA MOE/CEIS and State MFS fiscal data, survey all 60 IDEA Part B programs in the first year to:

(1) Assess their capacity to collect and report high-quality LEA MOE/CEIS and State MFS fiscal data required under data collections authorized under section 618 and identify the policies and practices that facilitate or hinder the collection of accurate data consistent with IDEA fiscal requirements; and

(2) Analyze and catalogue how States make available State financial support for special education and related services in order to develop templates that increase the capacity of States to collect and report accurate data;

(b) In the first year, analyze the LEA MOE/CEIS data submissions and data notes to determine common data collection and submission errors and to identify States in need of intensive or targeted TA.

Technical Assistance and Dissemination Activities

(a) Provide intensive TA to a minimum of 10 SEAs per year ¹⁰ to improve States' collection and submission of IDEA fiscal data consistent with the requirements of IDEA. Preference should be given to those States with the greatest need, including States with a demonstrated failure to accurately report MFS or LEA MOE/CEIS data, and States requesting TA. When working with States on LEA MOE/CEIS data, the TA should develop the capacity of SEAs to train LEAS to accurately report the required data;

¹⁰ The requirement of the priority is that the Center provides intensive TA to 10 SEAs in any given year, which may include continued TA for some SEAs across more than one year.

(b) Provide a range of targeted and general TA products and services related to fiscal data to improve State capacity to collect and report valid and reliable data, including the dissemination of OSEP guidance on IDEA fiscal requirements and the development and dissemination of TA products on IDEA fiscal data collection and reporting requirements, and improve the capacity of SEAs to train LEAs to accurately report the required data; and

(c) Develop templates to assist States in collecting valid and reliable State MFS and LEA MOE/CEIS data so those data can be accurately reported to OSEP. These templates should be designed to accommodate variances in State school financing systems (insofar as possible) and remind users of the applicable required components of the calculation.

Coordination Activities

(a) Communicate and coordinate, on an ongoing basis, with other Department-funded projects, including those providing data-related support to States, such as the National Technical Assistance Center to Improve State Capacity to Accurately Collect and Report IDEA Data; and

(b) Maintain ongoing communication with the OSEP project officer.

Administrative Requirements

To be considered for funding under this priority, applicants must meet the application and administrative requirements in this priority. OSEP encourages innovative approaches to meet these requirements, which are:

(a) Demonstrate, in the narrative section of the application under “Significance of the Project,” how the proposed project will address States' capacity to: (1) Understand IDEA's statutory and regulatory basis for the fiscal reporting requirements; (2) collect valid and reliable fiscal data; (3) conduct required calculations consistent with IDEA requirements; and (4) report valid and reliable fiscal data; and

(b) Demonstrate knowledge of IDEA fiscal data collections, including the underlying statutory and regulatory requirements, current fiscal guidance, and State school funding systems;

(c) Demonstrate, in the narrative section of the application under “Quality of the Project Services,” how the proposed project would—

(1) Achieve its goals, objectives, and intended outcomes. To meet this requirement, the applicant must provide—

(i) Measurable intended project outcomes; and

(ii) The logic model by which the proposed project will achieve its intended outcomes;

(2) Use a conceptual framework to develop project plans and activities, describing any underlying concepts, assumptions, expectations, beliefs, or theories, as well as the presumed relationships or linkages among these variables, and any empirical support for this framework;

(3) Base the design of the TA on current research and make use of evidence-based practices. To meet this requirement, the applicant must describe—

(i) The current research about adult learning principles and implementation science that would inform the proposed TA; and

(ii) How the proposed project would incorporate current research and evidence-based practices in the development and delivery of its products and services;

(4) Develop products and provide services that are of high quality and sufficient intensity and duration to achieve the intended outcomes of the proposed project. To address this requirement, the applicant must describe—

(i) How it proposes to identify or develop the knowledge base for IDEA fiscal data collection and reporting requirements;

(ii) How it proposes to conduct the survey of all 60 IDEA Part B Programs administered by SEAs;

(iii) How it proposes to conduct universal, general TA ¹¹ for the 60 SEAs that have IDEA Part B programs;

¹¹ “Universal, general TA” means TA and information provided to independent users through their own initiative, resulting in minimal interaction with TA center staff and including one-time, invited or offered conference presentations by TA center staff. This category of TA also includes information or products, such as newsletters, guidebooks, or research syntheses, downloaded from the TA center's Web site by independent users. Brief communications by TA center staff with recipients, either by telephone or email, are also considered universal, general TA.

(iv) How it proposes to provide targeted, specialized TA,¹² which must identify—

¹² “Targeted, specialized TA” means TA service based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients of the products and services under this approach;

(B) How it proposes to measure the readiness of potential TA recipients to work with the project, assessing, at a minimum, their current infrastructure, available resources, and ability to build capacity at the LEA level; and

(C) Appropriate staff with the requisite responsibilities to receive the TA in these areas.

(v) How it proposes to provide intensive, sustained TA,¹³ which must identify—

¹³ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) How it proposes to select and recruit SEAs to work with the proposed project, considering the SEAs' need for the initiative, current infrastructure, available resources, and ability to build capacity at the LEA level;

(B) How it proposes to assist SEAs in building training systems that include professional development based on adult learning principles and coaching; and

(C) How it proposes to involve and work with other regional TA providers to assist SEAs with communication between each level of the education system (e.g., districts, schools, families);

(5) Develop products and implement services to maximize the project's efficiency. To address this requirement, the applicant must describe—

(i) How the proposed project would use technology to achieve the intended project outcomes;

(ii) With whom the proposed project would collaborate and the intended outcomes of this collaboration; and

(iii) How the proposed project would use non-project resources to achieve the intended project outcomes.

(d) Demonstrate, in the narrative section of the application under “Quality of the Evaluation Plan,” how—

(1) The proposed project would collect and analyze data on specific and measurable goals, objectives, and intended outcomes of the project. To address this requirement, the applicant must describe its—

(i) Proposed evaluation methodologies, including instruments, data collection methods, and analyses; and

(ii) Proposed standards or targets for determining effectiveness;

(2) The proposed project would use the evaluation results to examine the effectiveness of its implementation and its progress toward achieving intended outcomes; and

(3) The proposed methods of evaluation would produce quantitative and qualitative data that demonstrate whether the project achieved the intended outcomes.

(e) Demonstrate, in the narrative section of the application under “Adequacy of Project Resources,” how—

(1) The proposed project would encourage applications for employment from persons who are members of groups that have traditionally been underrepresented based on race, color, national origin, gender, age, or disability, as appropriate;

(2) The proposed key project personnel, consultants, and subcontractors have the qualifications and experience to carry out the proposed activities and achieve the project's intended outcomes, including experience working with State and district fiscal systems.

(3) The applicant and any key partners have adequate resources to carry out the proposed activities; and

(4) The proposed costs are reasonable in relation to the anticipated results and benefits.

(f) Demonstrate, in the narrative section of the application under “Quality of the Management Plan,” how—

(1) The proposed management plan would ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated to the project and how these allocations are appropriate and adequate to achieve the project's intended outcomes;

(3) The proposed management plan would ensure that the products and services provided are of high quality; and

(4) The proposed project would obtain a diversity of perspectives, including those of State and local personnel, TA providers, researchers, and policy makers, among others, in the development and operation of its plan.

(g) Address the following application requirements:

(1) Include in Appendix A a logic model that depicts, at a minimum, the goals, activities, outputs, and outcomes of the proposed project. A logic model communicates how a project will achieve its intended outcomes and provides a framework for both the formative and summative evaluations of the project.

Note: The following Web sites provide more information on logic models: www.researchutilization.org/matrix/logicmodel_resource3c.html and www.tadnet.org/pages/589;

(2) Include in Appendix A a conceptual framework for the project;

(3) Include in Appendix A person-loading charts and timelines, as applicable, to illustrate the management plan described in the narrative;

(4) Include in the budget the costs for attending the following events:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative;

(ii) A two and one-half day project directors' conference in Washington, DC, during each year of the project period;

(iii) A two-day trip annually to attend Department briefings, Department-sponsored conferences, and other meetings, as requested by OSEP; and

(iv) A one-day intensive review meeting in Washington, DC, during the last half of the second year of the project period;

(5) Include in the budget a line item for an annual set-aside of five percent of the grant amount to support emerging needs that are consistent with the proposed project's intended outcomes, as those needs are identified in consultation with OSEP;

Note: With approval from the OSEP project officer, the project must reallocate any remaining funds from this annual set-aside no later than the end of the third quarter of each budget period; and

(6) Maintain a Web site that meets government or industry-recognized standards for accessibility.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority

We will announce the final priority in a notice in the Federal Register. We will determine the final priority after considering responses to this notice and other information available to the Department. This notice does not preclude us from proposing additional priorities, subject to meeting applicable rulemaking requirements.

Note: This notice does not solicit applications. In any year in which we choose to use this proposed priority, we invite applications through a notice in the Federal Register.

Executive Orders 12866 and 13563

Under Executive Order 12866, the Secretary must determine whether this regulatory action is “significant” and, therefore, subject to the requirements of the Executive order and subject to review by OMB. Section 3(f) of Executive Order 12866 defines a “significant regulatory action” as an action likely to result in a rule that may—

(1) Have an annual effect on the economy of $100 million or more, or adversely affect a sector of the economy, productivity, competition, jobs, the environment, public health or safety, or State, local or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this proposed priority only on a reasoned determination that its benefits justify its costs. In choosing among alternative regulatory approaches, we selected those approaches that maximize net benefits. Based on the analysis that follows, the Department believes that this regulatory action is consistent with the principles in Executive Order 13563.

We have also determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 28, 2014.
Michael K. Yudin,
Acting Assistant Secretary for Special Education and Rehabilitative Services.

[FR Doc. 2014-10000 Filed 4-30-14; 8:45 am]

BILLING CODE 4000-01-P